POSTAL SERVICE

Board of Governors; Sunshine Act Meeting

Date and Times: Tuesday, November 1, 2005; 10 a.m. and 3:30 p.m.

Place: Washington, DC, at U.S. Postal Service Headquarters, 475 L'Enfant Plaza, SW., in the Benjamin Franklin Room.

Status: November 1—10 a.m. (Closed); 3:30 p.m. (Open).

Matters To Be Considered

Tuesday, November 1 at 10 a.m. (Closed)

1. Strategic Planning.

2. Financial Update.

3. Personnel Matters and Compensation Issues.

4. Rate Case Planning.

5. Pricing of International Services.

Tuesday, November 1 at 3:30 p.m. (Open)

1. Minutes of the Previous Meeting, September 26-27, 2005.

2. Remarks of the Postmaster General and CEO Jack Potter.

3. Committee Reports.

4. Quarterly Report on Service Performance.

5. Tentative Agenda for the December 6, 2005, meeting in Washington, DC.

For Further Information Contact: William T. Johnstone, Secretary of the Board, U.S. Postal Service, 475 L'Enfant Plaza, SW., Washington, DC 20260-1000. Telephone (202) 268-4800.

William T. Johnstone,
Secretary.

[FR Doc. 05-21497 Filed 10-24-05; 4:41 pm]

BILLING CODE 7710-12-M